DEPARTMENT OF HEALTH AND HUMAN SERVICES

National Vaccine Advisory Committee

AGENCY: Office of the Secretary.

ACTION: Notice of meeting.

SUMMARY: As stipulated by the Federal Advisory Committee Act, the Department of Health and Human Services (DHHS) is hereby giving notice that the National Vaccine Advisory Committee (NVAC) will hold a meeting. The meeting is open to the public.

DATES: The meeting will be held on February 3, 2004, from 9 a.m. to 5 p.m., and on February 4, 2004, from 8:30 a.m. to 3:15 p.m.

ADDRESSES: Department of Health and Human Services; Room 800 Humphrey Building; 200 Independence Avenue, SW.; Washington, DC 20201

FOR FURTHER INFORMATION, CONTACT: Ms. Carolin Commodore, Staff Assistant, National Vaccine Program Office and Executive Secretary, National Vaccine Advisory Committee; U.S. Department of Health and Human Services, Room 725H Hubert H. Humphrey Building, 200 Independence Avenue, SW., Washington, DC 20201; (202) 260-1253.

SUPPLEMENTARY INFORMATION: Pursuant to Section 2101 of the Public Service Act (42 U.S.C. Section 300aa-1), the Secretary of Health and Human Services was mandated to establish the National Vaccine Program (NVP) to achieve optimal prevention of human infectious diseases through immunization and to achieve optimal prevention against adverse reactions to vaccines. The Secretary designated the Assistant Secretary for Health to serve as the Director, NVP. The National Vaccine Advisory Committee (NVAC) was established to provide advice and make recommendations to the Director, NVP, on matters related to the program's responsibilities.

Topics to be discussed at the meeting include: Influenza, the smallpox vaccine program, poliovirus laboratory containment, an update on Project BioShield, vaccine supply, and NVPO unmet needs funds.

A tentative agenda will be made available for review on the NVPO Web site: http://www.hhs.gov/nvpo.

Public attendance at the meeting is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Any members of the public who wish to have printed material distributed to NVAC members should submit materials to the Executive Secretary, NVAC, whose contact information is listed above prior to close of business January 15, 2004. Pre-registration is required for both public attendance and comment. Any individual who wishes to attend the meeting and/or participate in the public comment session should call the telephone number listed in the contact information to register.

The National Vaccine Program Office was organizationally relocated to the Office of Public Health and Science on October 1, 2003.

Dated: January 2, 2004.
Bruce Gellin,
Director, National Vaccine Program Office and Executive Secretary, National Vaccine Advisory Committee.

[FR Doc. 04-1314 Filed 1-21-04; 8:45 am]

BILLING CODE 4150-28-P